DEPARTMENT OF TRANSPORTATION

Federal Transit Administration

Protecting Public Transportation Operators From the Risk of Assault

AGENCY: Federal Transit Administration (FTA), DOT.

ACTION: Notice.

SUMMARY: This notice alerts transit agencies to the need to address the risk of transit operator assault when identified through the processes required under the Public Transportation Agency Safety Plan (PTASP) regulation. The PTASP regulation requires transit agencies to develop and implement Safety Management Systems (SMS) and associated processes for all elements of a public transportation system. In cases where transit agencies discover a risk of operator assault, the PTASP regulation requires agencies as part of their SMS processes to develop methods or processes to identify mitigations or strategies necessary as a result of the agency's safety risk assessment. The agency would use these methods or processes to reduce the likelihood and severity of occurrences of operator assault, based on the agency's analysis of the risk.

FOR FURTHER INFORMATION CONTACT: For general information, contact PTASP_QA@dot.gov. For program matters, contact Adrianne Malasky, Office of Transit Safety and Oversight, (202) 366-1783 or Adrianne.Malasky@dot.gov. For legal matters, contact Richard Wong, Office of Chief Counsel, (202) 366-4011 or Richard.Wong@dot.gov. Office hours are from 8:30 a.m. to 5:00 p.m. Eastern, Monday through Friday, except Federal holidays.

SUPPLEMENTARY INFORMATION: Section 3022(a) of the Fixing America's Surface Transportation (FAST) Act (Pub. L. 114-94) directs FTA to issue a notice of proposed rulemaking (NPRM) on protecting public transportation operators from the risk of assault. Section 3022(b) requires that FTA in the proposed rulemaking consider the different safety needs of drivers of different modes, differences in operating environments, the use of technology to mitigate driver assault risks, existing experience, and the impact of the rule on future rolling stock procurements and vehicles currently in revenue service.

The recently promulgated PTASP regulation, 49 CFR part 673 (83 FR 34418 (July 19, 2018)), addresses the risk of transit operator assault and makes issuing a separate NPRM on this subject unnecessary. The PTASP regulation requires transit agencies to develop and implement SMS processes, which include identifying safety hazards, assessing the related safety risks, and then establishing methods of risk mitigation. Through these processes, transit agencies may discover various safety needs of transit workers, such as the risk of operator assault, based on their specific operating environments. Where instances of operator assault are identified, transit agencies should, as required by the PTASP regulation, take steps to identify mitigations or strategies necessary to reduce the likelihood and severity of occurrences of operator assault. The PTASP regulation itself is not included in this notice; an electronic version may be found on FTA's website at www.transit.dot.gov/PTASP.

In adopting SMS processes as part of the PTASP regulation, FTA took into account considerations consistent with Section 3022(b) of the FAST Act, because SMS requires steps tailored to the needs of each operating environment. The preamble to the PTASP regulation referenced future regulatory activities to address transit operator assault. After considering alternatives, FTA has determined that the PTASP regulation is the best approach to achieving the statutory objective of protecting public transportation operators from the risk of assault, and that any additional rulemaking would be redundant. This document also serves to provide notice of the termination of the associated Regulatory Identification Number for the NPRM, 2132-AB30.

K. Jane Williams,
Acting Administrator.

[FR Doc. 2019-10281 Filed 5-23-19; 8:45 am]

BILLING CODE P